DEPARTMENT OF ENERGY

Federal Energy Regulatory Commission

[Docket No. RP01-457-000]

Northern Border Pipeline Company; Notice of Proposed Changes in FERC Gas Tariff

June 21, 2001.

Take notice that on June 14, 2001, Northern Border Pipeline Company (Northern Border) tendered for filing to become part of its FERC Gas Tariff, First Revised Volume No. 1, the following tariff sheets to become effective July 16, 2001:

First Revised Sheet Number 202

First Revised Sheet Number 301

Northern Border states that the purpose of this filing is to revise Northern Border's FERC Gas Tariff to permit Northern Border to have the ability, from time to time, to contract for off-system pipelines' services without prior Commission approval. Northern Border also requests that the Company grant Northern Border a waiver of the “shipper must hold title to the gas” policy. Northern Border is making this tariff filing to be consistent with the Commission's policy findings as Docket No. CP95-218, et al. (Texas Eastern).

Northern Border states that copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/efi/doorbell htm.

David P. Boergers,
Secretary.

[FR Doc. 01-16056 Filed 6-26-01; 8:45 am]

BILLING CODE 6717-01-M